DEPARTMENT OF ENERGY

Federal Energy Regulatory Commission

[Project No. 2492-013]

Woodland Pulp, LLC; Notice of Application Tendered for Filing With the Commission and Establishing Procedural Schedule for Licensing and Deadline for Submission of Final Amendments

Take notice that the following hydroelectric application has been filed with the Commission and is available for public inspection.

a. Type of Application: Minor License.

b. Project No.: 2492-013.

c. Date Filed: February 28, 2014.

d. Applicant: Woodland Pulp, LLC (Woodland Pulp).

e. Name of Project: Vanceboro Dam Storage Project.

f. Location: The existing project is located on the outlet of Spednik Lake, on the east branch of the Saint Croix River, in Washington County, Maine and New Brunswick, Canada. The project does not affect federal lands.

g. Filed Pursuant to: Federal Power Act, 16 U.S.C. 791 (a)-825(r).

h. Applicant Contact: Jay Beaudoin, Woodland Pulp, LLC, 144 Main Street, Baileyville, Maine 04694, (207) 427-4005 or Jay.Beaudoin@woodlandpulp.com.

i. FERC Contact: Michael Watts, (202) 502-6123 or michael.watts@ferc.gov.

j. This application is not ready for environmental analysis at this time.

k. The Project Description: The existing Vanceboro Dam Storage Project consists of: (1) A 16-foot-high, 469-foot-long dam comprised of a 170-foot-long earthen embankment section, a 230-foot-long earthen embankment section, and a 69-foot-long gated concrete spillway section with two 22.5-foot-long, 14.5-foot-high steel Tainter gates with a crest elevation of 385.86 feet above mean sea level (msl); (2) an 8-foot-wide concrete vertical-slot upstream fishway; (3) an 18,558-acre impoundment (Spednik Lake) with a maximum pool elevation of 385.86 feet msl; and (4) appurtenant facilities.

The Vanceboro Dam Storage Project operates in a seasonal store and release mode. The existing license requires a minimum impoundment elevation of 371.5 feet msl, if possible, between October 1 and April 30; a minimum impoundment elevation of 376.5 feet msl, if possible, between May 1 and September 30; a maximum impoundment elevation of 385.86 feet msl, if possible; and a year round minimum downstream flow of 200 cubic feet per second.

Woodland Pulp is not proposing any new project facilities or changes in project operation.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | April 2014.
Filing of recommendations, preliminary terms and conditions, and fishway prescriptions | June 2014.
Commission issues Non-Draft EA | October 2014.
Comments on EA | November 2014.
Modified terms and conditions | January 2015.

o. Final amendments to the application must be filed with the Commission no later than 30 days from the issuance date of the notice of ready for environmental analysis.

Dated: March 7, 2014.
Kimberly D. Bose,
Secretary.

[FR Doc. 2014-05625 Filed 3-13-14; 8:45 am]

BILLING CODE 6717-01-P